DEPARTMENT OF ENERGY

Federal Energy Regulatory Commission

Combined Notice of Filings #2

Take notice that the Commission received the following exempt wholesale generator filings:

Docket Numbers: EG12-67-000.

Applicants: Pacific Wind, LLC.

Description: Notice of Self-Certification of Exempt Wholesale Generator Status of Pacific Wind, LLC.

Filed Date: 5/16/12.

Accession Number: 20120516-5102.

Comments Due: 5 p.m. ET 6/6/12.

Take notice that the Commission received the following electric rate filings:

Docket Numbers: ER12-1179-001.

Applicants: Southwest Power Pool, Inc.

Description: Integrated Marketplace Amendatory Filing to be effective 3/1/2014.

Filed Date: 5/16/12.

Accession Number: 20120516-5000.

Comments Due: 5 p.m. ET 6/6/12.

Docket Numbers: ER12-1403-001.

Applicants: Consolidated Edison Company of New York, Inc.

Description: Deferral Request and Amendment PASNY/EDDS RY3 to be effective 12/31/9998.

Filed Date: 5/16/12.

Accession Number: 20120516-5087.

Comments Due: 5 p.m. ET 6/6/12.

Docket Numbers: ER12-1408-001.

Applicants: Consolidated Edison Company of New York, Inc.

Description: Request for Deferral and Amendment WDS RY3 to be effective 12/31/9998.

Filed Date: 5/16/12.

Accession Number: 20120516-5091.

Comments Due: 5 p.m. ET 6/6/12.

Docket Numbers: ER12-1798-000.

Applicants: PJM Interconnection, LLC.

Description: Original Service Agreement No. 3310; Queue No. T155 to be effective 4/23/2012.

Filed Date: 5/16/12.

Accession Number: 20120516-5046.

Comments Due: 5 p.m. ET 6/6/12.

Docket Numbers: ER12-1799-000.

Applicants: Cleco Evangeline LLC.

Description: Compliance Filing per ER12-1116-000 to be effective 5/1/2012.

Filed Date: 5/16/12.

Accession Number: 20120516-5057.

Comments Due: 5 p.m. ET 6/6/12.

Docket Numbers: ER12-1800-000.

Applicants: Public Service Company of New Mexico.

Description: OATT Attachment R Reliability Redispatch Costs and Methodology to be effective 7/15/2012.

Filed Date: 5/16/12.

Accession Number: 20120516-5094.

Comments Due: 5 p.m. ET 6/6/12.

Docket Numbers: ER12-1801-000.

Applicants: Tucson Electric Power Company.

Description: TEP Attachment C Revisions to be effective 7/16/2012.

Filed Date: 5/16/12.

Accession Number: 20120516-5100.

Comments Due: 5 p.m. ET 6/6/12.

Docket Numbers: ER12-1802-000.

Applicants: Southwest Power Pool, Inc.

Description: 2234R1 Osage Wind and Public Service Co. of OK. Affected Systems Agreement to be effective 4/16/2012.

Filed Date: 5/16/12.

Accession Number: 20120516-5106.

Comments Due: 5 p.m. ET 6/6/12.

Docket Numbers: ER12-1803-000.

Applicants: Cleco Power LLC.

Description: Amendment of Delivery Points in RS12—ESIA with Lafayette, Louisiana to be effective 5/14/2012.

Filed Date: 5/16/12.

Accession Number: 20120516-5114.

Comments Due: 5 p.m. ET 6/6/12.

Docket Numbers: ER12-1804-000.

Applicants: Pacific Wind, LLC.

Description: Pacific Wind Baseline MBR Application Filing to be effective 6/25/2012.

Filed Date: 5/16/12.

Accession Number: 20120516-5115.

Comments Due: 5 p.m. ET 6/6/12.

Docket Numbers: ER12-1805-000.

Applicants: Arizona Public Service Company.

Description: Amendment 1 to Service Agreement No. 318; NTUA NITS to be effective 5/1/2012.

Filed Date: 5/16/12.

Accession Number: 20120516-5116.

Comments Due: 5 p.m. ET 6/6/12.

Docket Numbers: ER12-1806-000.

Applicants: New York Power Authority.

Description: Request for Waiver of New York Power Authority.

Filed Date: 5/16/12.

Accession Number: 20120516-5142.

Comments Due: 5 p.m. ET 5/23/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2012.
Nathaniel J. Davis, Sr.,
Deputy Secretary.

[FR Doc. 2012-12465 Filed 5-22-12; 8:45 am]

BILLING CODE 6717-01-P